DEPARTMENT OF DEFENSE

Department of the Army; Corps of Engineers

Public Hearing To Receive Comments for the San Luis Rey River Flood Control Project, From College Blvd. to the Pacific Ocean, San Diego County, CA, Operation and Maintenance for Vegetation and Sediment Management, Draft Supplemental Environmental Impact Statement

AGENCY: Department of the Army, U.S. Army Corps of Engineers, DoD.

ACTION: Notice of hearing.

SUMMARY: The U.S. Army Corps of Engineers, Los Angeles District (Corps) will hold a public hearing to receive comments on the proposed project action as described and evaluated in Draft Supplemental Environmental Impact Statement (SEIS) for the operation and maintenance, related to vegetation and sediment management, of the San Luis Rey River Flood Control Project.

DATES: The public hearing will be held on Thursday, November 30, 2006, at 7 p.m.

ADDRESSES: The public hearing will be held in the Community Meeting Room at Oceanside City Hall, 300 N. Pacific Coast Highway, Oceanside, CA.

FOR FURTHER INFORMATION CONTACT: Ms. Tiffany Kayama, Project Environmental Coordinator, (213) 452-3845.

SUPPLEMENTARY INFORMATION: The Draft SEIS addresses potential environmental impacts associated with the proposed changes to the operation and maintenance for vegetation and sediment management of the San Luis Rey River Flood Control Project, and identifies measures to reduce such impacts. Modifications to existing operation and maintenance procedures are necessary to address new conditions within the project area, including the presence of Federal and state listed endangered and/or threatened species and listing of their critical habitat within the project footprint. The proposed modification is designed to convey flows of approximately 71,200 cubic feet per second (cfs).

The Federal lead agency that is responsible for implementing the National Environmental Policy Act (NEPA) is the Corps. The local lead agency that is responsible for implementing the California Environmental Quality Act (CEQA) is the City of Oceanside.

A range of alternatives, conceptual and a more refined set, were developed during coordination between the Corps and various regulatory and resource agencies and focused on variation in patterns of vegetation management, and the “implementability” and hydraulic acceptability of these patterns inside the existing leveed flood control channel, and their relative benefit to riparian species. Four alternatives are evaluated in the Draft SEIS. The public review period for the Draft SEIS began on November 3, 2006 and extends through December 18, 2006. Interested parties are invited to attend the meeting and submit any comments. Written comments may also be sent to the following address: U.S. Army Corps of Engineers, Los Angeles District, San Luis Rey River Flood Control Project, ATTN: CESPL-PD-RN, P.O. Box 532711, Los Angeles, CA 90053-2325. Comments concerning the Draft EIS should be submitted on or before December 18, 2006.

Brenda S. Bowen,
Army Federal Register Liaison Officer.

[FR Doc. 06-9220 Filed 11-15-06; 8:45 am]

BILLING CODE 3710-KF-M